DEPARTMENT OF HOUSING AND URBAN DEVELOPMENT

[Docket No. FR-7034-N-44]

30-Day Notice of Proposed Information Collection: Rent Reform Demonstration: 6-Year Follow-Up; OMB Control No.: 2528-0306

AGENCY: Office of the Chief Information Officer, Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: August 30, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on December 18, 2020 at 85 FR 82498.

A. Overview of Information Collection

Title of Information Collection: Rent Reform Demonstration: 6-Year Follow-Up.

OMB Approval Number: 2528-0306.

Type of Request: Revision or extension of currently approved collection.

Form Number: N/A.

Description of the need for the information and proposed use:

The Department is conducting this study under contract with MDRC and its subcontractors (The Bronner Group, Quadel Consulting Corporation, and the Urban Institute). The project is a random assignment trial of an alternative rent system. Families are randomly assigned to participate either in the new/alternative rent system or to continue in the current system. For voucher holders, outcomes of the alternative system are hypothesized to be increases in earnings, employment and job retention, among others. Random assignment will limit the extent to which selection bias drives observed results. The evaluation will document the progress of a group of housing voucher holders, who will be drawn from current residents, and the impact of the alternative rent system on the families as well as the administrative burden on Public Housing Agencies (PHAs). Three PHAs continue to participate in the long-term evaluation:

(1) Lexington Housing Authority (LHA), Lexington, Kentucky;

(2) Louisville Metro Housing Authority (LMHA), Louisville, Kentucky;

(3) San Antonio Housing Authority (SAHA), San Antonio, Texas; and

Data collection efforts include the families that are part of the treatment and control groups, as well as PHA staff. Data will be gathered through a variety of methods including informational interviews and discussions, direct observation, and analysis of administrative records. The work covered under this information request is for data collection proposed for the 6-year follow-up phase of the Rent Reform Demonstration.

Information collection | Number of respondents | Frequency of response | Responses per annum | Burden hour per response | Annual burden hours | Hourly cost per response | Annual cost
Study Participant Interviews | 60 | 1 | 60 | 1.5 | 90 | $7.25 | $652.50
PHA Supervisor Interviews | 9 | 1 | 9 | 1.5 | 13.5 | 42.17 | 569.30
PHA Specialist Staff Interviews | 15 | 1 | 15 | 1.5 | 22.5 | 25.64 | 576.90
Cost Study Data Collection Activities with PHA staff | 9 | 1 | 9 | 2 | 18 | 28.50 | 513.00
Total | 93 |  |  |  | 144 |  | 2,311.70

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Anna P. Guido,
Department Reports Management Officer, Office of the Chief Information Officer.

[FR Doc. 2021-16263 Filed 7-29-21; 8:45 am]

BILLING CODE 4210-67-P